DEPARTMENT OF ENERGY

Federal Energy Regulatory Commission

Combined Notice of Filings #2

Take notice that the Commission received the following electric rate filings:

Docket Numbers: ER12-2258-000; ER12-2258-001.

Applicants: Midwest Independent Transmission System Operator, Inc.

Description: Answer to Deficiency Letter of Midwest Independent Transmission System Operator, Inc.

Filed Date: 11/30/12.

Accession Number: 20121130-5253.

Comments Due: 5 p.m. ET 12/21/12.

Docket Numbers: ER13-513-000.

Applicants: Electricity NH, LLC.

Description: Electricity NH, LLC submits tariff filing per 35.1: Electricity New Hampshire FERC Tariff (revision 2) to be effective 12/5/2012.

Filed Date: 12/5/12.

Accession Number: 20121205-5001.

Comments Due: 5 p.m. ET 12/26/12.

Docket Numbers: ER13-514-000.

Applicants: Appalachian Power Company.

Description: 20121205 Attachment K Revision to be effective 1/4/2013.

Filed Date: 12/5/12.

Accession Number: 20121205-5062.

Comments Due: 5 p.m. ET 12/26/12.

Docket Numbers: ER13-515-000.

Applicants: Southwest Power Pool, Inc.

Description: Revisions to Attachment J, Section IV—Approved Balanced Portfolios to be effective 1/29/2013.

Filed Date: 12/5/12.

Accession Number: 20121205-5064.

Comments Due: 5 p.m. ET 12/26/12.

Docket Numbers: ER13-516-000.

Applicants: PJM Interconnection, L.L.C.

Description: First Revised Original Service Agreement No. 3403; Queue No. U3-004 to be effective 11/15/2012.

Filed Date: 12/5/12.

Accession Number: 20121205-5065.

Comments Due: 5 p.m. ET 12/26/12.

Docket Numbers: ER13-517-000.

Applicants: PJM Interconnection, L.L.C.

Description: Notice of Cancellation of Service Agreement No. 3056 in Docket No. ER12-4526-000 to be effective 11/5/2012.

Filed Date: 12/5/12.

Accession Number: 20121205-5140.

Comments Due: 5 p.m. ET 12/26/12.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 5, 2012.
Nathaniel J. Davis, Sr.,
Deputy Secretary.

[FR Doc. 2012-30281 Filed 12-14-12; 8:45 am]

BILLING CODE 6717-01-P